LEGAL SERVICES CORPORATION

Sunshine Act Meeting of the Board of Directors Committee on Provision for the Delivery of Legal Services

TIME AND DATE: The Committee on Provision for the Delivery of Legal Services of the Legal Services Corporation Board of Directors will meet on September 17, 2000. The meeting will begin at 10:00 a.m. and continue until the Committee concludes its agenda.

LOCATION: San Francisco Marriott, 55 Fourth Street, San Francisco, California 94103.

STATUS OF MEETING: Open.

MATTERS TO BE CONSIDERED: 1. Approval of agenda.

2. Approval of the minutes of the Committee's meeting of June 25, 2000.

3. Presentation on State Planning by Senior Program Counsel for State Planning Robert Gross and the following panel of guests:

• Robert Clyde, Executive Director, Ohio Legal Assistance Foundation;

• Joseph Dailing, Executive Director, Prairie State Legal Services (Illinois);

• Estella Casas, Executive Director, Greater Bakersfield Legal Assistance Foundation (California).

4. Report by Glen Rawdon, of LSC's Office of Program Performance, on LSC's technology initiative and grant awards.

5. Briefing by Randi Youells, Vice President for Programs, and Carolyn Worrell of LSC's Office of Program Performance, on changes in LSC's services in Indian Country.

6. Report by Randi Youells, Vice President for Programs, on the development of revisions to the CSR system (the LSC Results Project) and the development of new performance measures (the LSC Performance Project).

7. Report by Randi Youells, Vice President for Programs, on LSC's Diversity Initiatives.

8. Consider and act on other business.

9. Public comment.

CONTACT PERSON FOR INFORMATION: Victor M. Fortuno, Vice President for Legal Affairs, General Counsel & Secretary of the Corporation, at (202) 336-8800.

SPECIAL NEEDS: Upon request, meeting notices will be made available in alternate formats to accommodate visual and hearing impairments. Individuals who have a disability and need an accommodation to attend the meeting may notify Shannon Nicko Adaway, at (202) 336-8800.

Dated: September 7, 2000.
Victor M. Fortuno,
Vice President for Legal Affairs, General Counsel & Corporate Secretary

[FR Doc. 00-23518 Filed 9-8-00; 2:12 pm]

BILLING CODE 7050-01-P